INTERNATIONAL TRADE COMMISSION

[Investigation No. 337-TA-1074]

Certain Industrial Automation Systems and Components Thereof Including Control Systems, Controllers, Visualization Hardware, Motion and Motor Control Systems, Networking Equipment, Safety Devices, and Power Supplies; Notice of Commission Determination To Issue a Corrected General Exclusion Order

AGENCY: U.S. International Trade Commission.

ACTION: Notice.

SUMMARY: Notice is hereby given that the U.S. International Trade Commission has determined to issue a corrected general exclusion order (“GEO”) in the above-captioned investigation.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on October 16, 2017, under section 337 of the Tariff Act of 1930, as amended, 19 U.S.C. 1337 (“section 337”), based on a complaint filed by Rockwell Automation, Inc. (“Complainant”) of Milwaukee, Wisconsin. See 82 FR 48113-15 (Oct. 16, 2017). The complaint, as supplemented, alleged violations of section 337 based on the infringement of certain registered trademarks and copyrights and on unfair methods of competition and unfair acts in the importation or sale of certain industrial automation systems and components thereof including control systems, controllers, visualization hardware, motion and motor control systems, networking equipment, safety devices, and power supplies, the threat or effect of which is to destroy or substantially injure an industry in the United States. See id. The notice of investigation identified the following respondents: Can Electric Limited of Guangzhou, China (“Can Electric”); Capnil (HK) Company Limited of Hong Kong (“Capnil”); Fractioni (Hongkong) Ltd. of Shanghai, China (“Fractioni”); Fujian Dahong Trade Co. of Fujian, China (“Dahong”); GreySolution Limited d/b/a Fibica of Hong Kong (“GreySolution”); Huang Wei Feng d/b/a A-O-M Industry of Shenzhen, China (“Huang”); KBS Electronics Suzhou Co, Ltd. of Shanghai, China (“KBS”); PLC-VIP Shop d/b/a VIP Tech Limited of Hong Kong (“PLC-VIP”); Radwell International, Inc. d/b/a PLC Center of Willingboro, New Jersey (“Radwell”); Shanghai EuoSource Electronic Co., Ltd of Shanghai, China (“EuoSource”); ShenZhen T-Tide Trading co., Ltd. of Shenzhen, China (“T-Tide”); SoBuy Commercial (HK) Co. Limited of Hong Kong (“SoBuy”); Suzhou Yi Micro Optical Co., Ltd., d/b/a Suzhou Yiwei Guangxue Youxiangongsi, d/b/a Easy Microoptics Co. LTD. of Jiangsu, China (“Suzhou”); Wenzhou Sparker Group Co. Ltd., d/b/a Sparker Instruments of Wenzhou, China (“Sparker”); and Yaspro Electronics (Shanghai) Co., Ltd. of Shanghai, China (“Yaspro”). See id. In addition, the Office of Unfair Import Investigations was also a party in this investigation. See id.

Nine respondents were found in default, namely, Fractioni, GreySolution, KBS, EuoSource, T-Tide, SoBuy, Suzhou, Yaspro and Can Electric (collectively, “the Defaulted Respondents”). Furthermore, five unserved respondents (Capnil, Dahong, Huang, PLC-VIP, and Sparker) were terminated from the investigation, and one respondent (Radwell) was terminated based on the entry of a consent order.

On October 23, 2018, the Administrative Law Judge (“ALJ”) issued a final initial determination (“FID”) finding a violation of section 337 by the Defaulted Respondents and recommending that the Commission: (1) Issue a general exclusion order (“GEO”); and (2) issue a cease and desist order (“CDO”) against Defaulted Respondent Fractioni. The ALJ determined that the Defaulted Respondents infringed Complainant's asserted trademarks, but that Complainant failed to establish its two other claims, namely, the infringement of Complainant's asserted copyrights and tortious interference with Complainant's contracts.

On December 20, 2018, the Commission issued a notice determining not to review the FID. See 83 FR 67346-48 (Dec. 28, 2018). On April 8, 2019, the Commission issued a notice determining that the appropriate remedy is a GEO prohibiting the unlicensed entry of certain industrial automation systems and components thereof including control systems, controllers, visualization hardware, motion and motor control systems, networking equipment, safety devices, and power supplies that infringe Complainant's asserted trademarks, and a CDO directed to defaulted respondent Fractioni. See 84 FR 14971-72 (Apr. 12, 2019). The GEO, however, inadvertently omits a provision requiring Complainant to file a yearly written statement with the Commission attesting that Complainant continues to use the asserted trademarks in commerce in the United States, that the asserted trademarks have not been abandoned, cancelled, or rendered invalid or unenforceable, and that Complainant continues to satisfy the domestic industry requirement.

The Commission has determined to issue a corrected GEO including the reporting requirement.

The Commission's vote on this determination took place on October 27, 2020.

The authority for the Commission's determination is contained in section 337 of the Tariff Act of 1930, as amended (19 U.S.C. 1337), and in part 210 of the Commission's Rules of Practice and Procedure (19 CFR part 210).

While temporary remote operating procedures are in place in response to COVID-19, the Office of the Secretary is not able to serve parties that have not retained counsel or otherwise provided a point of contact for electronic service. Accordingly, pursuant to Commission Rules 201.16(a) and 210.7(a)(1) (19 CFR 201.16(a), 210.7(a)(1)), the Commission orders that the Complainant(s) complete service for any party/parties without a method of electronic service noted on the attached Certificate of Service and shall file proof of service on the Electronic Document Information System (EDIS).

By order of the Commission.
Issued: October 27, 2020.
Lisa Barton,
Secretary to the Commission.

[FR Doc. 2020-24166 Filed 10-30-20; 8:45 am]

BILLING CODE 7020-02-P